DEPARTMENT OF THE INTERIOR

Fish and Wildlife Service

[FWS-R8-ES-2009-N136; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before August 6, 2009.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-213308

Applicant: Joseph E. DiDonato, Alameda, California.

The applicant requests a permit to take (harass by survey, capture, handle, and release) the California tiger salamander (Ambystoma californiense) in conjunction with surveys and population monitoring throughout the range of the species within the jurisdiction of the Sacramento Fish and Wildlife Service Office, California, for the purpose of enhancing its survival.

Permit No. TE-045994

Applicant: U.S. Geological Service, Biological Resources Division, Western Ecological Research Center, San Diego Field Station, San Diego, California.

The applicant requests an amendment to an existing permit (August 28, 2001, 66 FR 45322), in order to extend the geographic area and take (harass by survey, capture, handle, and release) the unarmored threespine stickleback (Gasterosteus aculeatus williamsoni) in conjunction with surveys and population demographic studies within Santa Barbara County, California, for the purpose of enhancing its survival.

Permit No. TE-213314

Applicant: Morro Coast Audubon Society, Morro Bay, California.

The applicant requests a permit to take (harass by survey, and handle) the Morro shoulderband snail (Helminthoglypta waleriana) in conjunction with surveys throughout the range of the species in California for the purpose of enhancing its survival.

Permit No. TE-211099

Applicant: Kenneth A. Glass, Oakhurst, California.

The applicant requests a permit to take (harass by survey, capture, handle, and release) the California tiger salamander (Ambystoma californiense) in conjunction with surveys and population monitoring throughout the range of the species in California for the purpose of enhancing its survival.

Permit No. TE-787716

Applicant: Scott B. Tremor, Santee, California.

The applicant requests an amendment to an existing permit (February 10, 1997, 62 FR 6002) to take (capture, handle, and release) the Stephens' kangaroo rat (Dipodomys stephensi) and San Bernardino kangaroo rat (Dipodomys merriami parvus) in conjunction with surveys throughout the range of each species in California for the purpose of enhancing their survival.

Permit No. TE-095858-3

Applicant: Arianne B. Preite, Anaheim Hills, California.

The applicant requests an amendment to an existing permit (December 8, 2004, 69 FR 71070) to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-211099

Applicant: Joelle J. Fournier, San Diego, California.

The applicant requests a permit to take (harass by survey, and locate/monitor nests) the California least tern (Sterna Antillarum browni) in conjunction with surveys and population monitoring studies throughout the range of the species in California for the purpose of enhancing its survival.

Permit No. TE-213730

Applicant: Chad M. Young, Riverside, California.

The applicant requests a permit to take (capture, handle, tag, and release) the Stephens' kangaroo rat (Dipodomys stephensi) in conjunction with surveys and population monitoring throughout the range of the species in California for the purpose of enhancing its survival.

Permit No. TE-068745

Applicant: Jeffery T. Wilcox, San Jose, California.

The applicant requests an amendment to an existing permit, which we granted November 4, 2003, for a federally threatened species. The original permit allowed the applicant to take (harass by survey, capture, handle, transfer, and release) the California red-legged frog (Rana aurora draytonii) in conjunction with surveys and habitat management activities (prescribed fire) at the Blue Oak Ranch in Santa Clara County, California, for the purpose of enhancing its survival. The applicant requests an amendment to take (harass by survey, capture, handle and release) the California tiger salamander (Ambystoma californiense) in conjunction with surveys, population monitoring, and habitat management activities (prescribed fire) throughout the range of the species in California for the purpose of enhancing its survival.

Permit No. TE-777965

Applicant: LSA Associates Incorporated, Irvine, California.

The applicant requests an amendment to an existing permit (March 31, 1997, 62 FR 15192) to take (harass by survey) the Yuma clapper rail (Rallus longirostris yumanensis) and the light-footed clapper rail (Rallus longirostris levipes) in conjunction with surveys in California, Nevada, and Arizona, for the purpose of enhancing their survival; and take (harass by survey, and locate/monitor nests) the California least tern (Sterna Antillarum browni) in conjunction with surveys and population monitoring studies throughout the range of the species in California for the purpose of enhancing its survival.

Permit No. TE-215889

Applicant: Santa Clara University, Santa Clara, California.

The applicant requests a permit to take (survey, capture, mark, and recapture) the San Francisco garter snake (Thamnophis sirtalis) in conjunction with population monitoring and habitat quality/connectivity studies in Santa Clara County, California, for the purpose of enhancing its survival.

We invite public review and comment on each of these recovery permit applications. Comments and materials we receive will be available for public inspection, by appointment, during normal business hours at the address listed in the ADDRESSES section of this notice.

Dated: June 30, 2009.
Michael Long,
Acting Regional Director, Region 8, Sacramento, California.

[FR Doc. E9-15913 Filed 7-6-09; 8:45 am]

BILLING CODE 4310-55-P